SECURITIES AND EXCHANGE COMMISSION

Sunshine Act Meeting

Federal Register CITATION OF PREVIOUS ANNOUNCEMENT: [78 FR 101, Friday, May 24, 2013].

STATUS: Closed Meeting.

PLACE: 100 F Street NE., Washington, DC

DATE AND TIME OF PREVIOUSLY ANNOUNCED MEETING: Thursday, May 30, 2013 at 2:00 p.m.

CHANGE IN THE MEETING: Time Change.

The Closed Meeting scheduled for Thursday, May 30, 2013 at 2:00 p.m. has been changed to Thursday, May 30, 2012 at 1:00 p.m.

At times, changes in Commission priorities require alterations in the scheduling of meeting items. For further information and to ascertain what, if any, matters have been added, deleted or postponed, please contact the Office of the Secretary at (202) 551-5400.

Dated: May 29, 2013.
Elizabeth M. Murphy,
Secretary.

[FR Doc. 2013-13030 Filed 5-29-13; 4:15 pm]

BILLING CODE 8011-01-P